DEPARTMENT OF HOMELAND SECURITY

Coast Guard

[USCG-2008-1217]

Area Maritime Security Committees (AMSCs); Nationwide

AGENCY: Coast Guard, DHS.

ACTION: Solicitation for membership.

SUMMARY: This notice requests individuals interested in serving on an Area Maritime Security Committee in any Captain of the Port Zone, nationwide, to submit their applications for membership to their local Captain of the Port. These committees advise the Secretary of DHS, through the Coast Guard, on matters relating to maritime security in their geographic area.

DATES: Requests for membership should reach the applicable Captain of the Port by January 21, 2009.

ADDRESSES: Applications for membership should be submitted to your local Captain of the Port at the following address(s):

SECTOR ANCHORAGE, 510 L STREET-SUITE 100, ANCHORAGE, AK 99501-1946, POC: Jim Hubbard, Primary Phone: (907) 271-6700.

SECTOR BALTIMORE, 2401 HAWKINS POINT RD, BALTIMORE, MD 21226, POC: Rick Sparacino, Primary Phone: (410) 576-2561.

SECTOR BOSTON, 427 COMMERCIAL ST, BOSTON, MA 02109, POC: Phillip Smith, Primary Phone: (617) 223-3025.

SECTOR BUFFALO, 1 FUHRMANN BLVD, BUFFALO, NY 14203, POC: Timothy Balunis, Primary Phone: (716) 843-9315.

SECTOR CHARLESTON, 196 TRADD ST, CHARLESTON, SC 29401, POC: James Mahney, Primary Phone: (843) 724-7600.

SECTOR CORPUS CHRISTI, 8930 OCEAN DR., CORPUS CHRISTI, TX 78419, POC: John Zarbock, Primary Phone: (361) 939-6393.

SECTOR DELAWARE BAY, 1 WASHINGTON AVE, PHILADELPHIA, PA 19147, POC: Robert Ward, Primary Phone: (215) 271-4800.

SECTOR DETROIT, 110 MOUNT ELLIOTT ST, DETROIT, MI 48207, POC: Matthew Hoppe, Primary Phone: (313) 568-9600.

MARINE SAFETY UNIT DULUTH, 600 S LAKE AVE., DULUTH, MN 55802, POC: Jared Angelle, Primary Phone: (218) 720-5286.

SECTOR GUAM, PSC 455 BOX 176, FPO, GU 96540, POC: LT Amy Wirts, Primary Phone: (671) 355-4900.

CG SECTOR HAMPTON ROADS, 4000 COAST GUARD BOULEVARD, PORTSMOUTH, VA 23703, POC: Rodger Tomlinson, Primary Phone: (757) 668-5555 Ext. 2.

SECTOR HONOLULU, 400 SAND ISLAND PARKWAY, HONOLULU, HI 96819, POC: William Deluca, Primary Phone: (808) 842-2640.

SECTOR HOUSTON-GALVESTON, 9640 CLINTON DRIVE, HOUSTON, TX 77029, POC: John Walker, Primary Phone: (713) 671-5100.

SECTOR JACKSONVILLE, 4200 OCEAN STREET, ALTANTIC BEACH, FL 32233, POC: Thomas Taylor, Primary Phone: (904) 564-7500.

USCG SECTOR JUNEAU, 2760 SHERWOOD LANE, SUITE 2A, JUNEAU, AK 99801-8545, POC: Robert Edwardson, Primary Phone: (907) 463-2450.

SECTOR KEY WEST, 100 TRUMBO POINT ANNEX, KEY WEST, FL 33040, POC: LTJG Anna Dixon, Primary Phone: (305) 292-8722.

SECTOR LAKE MICHIGAN, 2420 S LINCOLN MEMORIAL DR, MILWAUKEE, WI 53207, POC: Thomas Lake, Primary Phone: (414) 747-7100.

SECTOR LONG ISLAND SOUND, 120 WOODWARD AVE, NEW HAVEN, CT 06512, POC: Scot Graham, Primary Phone: (203) 468-4401.

SECTOR LOS ANGELES-LONG BEACH, 1001 S. SEASIDE AVE., BLDG 20, SAN PEDRO, CA 90731, POC: Chris Hogan, Primary Phone: (310) 521-3600.

SECTOR LOWER MISSISSIPPI RIVER, #2 AUCTION AVE., MEMPHIS, TN 38105, POC: Keith Jones, Primary Phone: (901) 544-3912.

SECTOR MIAMI, 100 MACARTHUR CAUSEWAY, MIAMI BEACH, FL 33139, POC: Frank Cesario, Primary Phone: (305) 535-8700.

SECTOR MOBILE, BLDG 101, BROOKLEY COMPLEX, MOBILE, AL 36615, POC: Louie Atchison, Primary Phone: (251) 441-5720.

MSU MORGAN CITY, 800 DAVID DR RM 232, MORGAN CITY, LA 70380, POC: Joseph Pasqua, Primary Phone: (985) 380-5320.

SECTOR NEW ORLEANS, 1615 POYDRAS ST, NEW ORLEANS, LA 70112, POC: Roy Ford, Primary Phone: (504) 589-6196.

SECTOR NEW YORK, 212 COAST GUARD DR, STATEN ISLAND, NY 10305, POC: Frank Fiumano, Primary Phone: (718) 354-4037.

SECTOR NORTH CAROLINA/MSU WILMINGTON, 2301 E. FORT MACON RD, ATLANTIC BEACH, NC 28512-5633, POC: David Morgan, Primary Phone: (252) 247-4519.

SECTOR NORTHERN NEW ENGLAND, 259 HIGH STREET, SOUTH PORTLAND, ME 04106, POC: Arn Heggers, Primary Phone: (207) 767-0320.

SECTOR OHIO VALLEY, 600 MARTIN LUTHER KING JR PL RM 409-D, LOUISVILLE, KY 40202-2242, POC: David Wuest, Primary Phone: (502)779-5400.

MSU PITTSBURGH, 100 FORBES AVE, STE 1150, PITTSBURGH, PA 15222, POC: ENS Matthew DeFusco, Primary Phone: (412) 644-5808.

MSU PORT ARTHUR /MSU LAKE CHARLES, 2901 TURTLE CREEK DRIVE, PORT ARTHUR, TX 77642, POC: Robert Stegall, Primary Phone: (409) 723-6500.

SECTOR PORTLAND, 6767 N BASIN AVE, PORTLAND, OR 97217, POC: David Maresh, Primary Phone: (503) 240-9310.

SECTOR SAN DIEGO, 2710 NORTH HARBOR DRIVE, SAN DIEGO, CA 92101, POC: Rick Sorrell, Primary Phone: (619) 278-7033.

SECTOR SAN FRANCISCO, 1 YERBA BUENA ISLAND, SAN FRANCISCO, CA 94130, POC: Paul Martin, Primary Phone: (415) 399-3547.

SECTOR SAN JUAN, #5 CALLE LA PUNTILLA, SAN JUAN, PR 00901-1800, POC: Victor Gonzalez, Primary Phone: (787) 289-2041.

SECTOR SAULT STE. MARIE, C/O COAST GUARD SECTOR, SAULT STE MARIE, MI 49783, POC: Lane Putala, Primary Phone: (906) 635-3340.

MSU SAVANNAH, 100 W. OGLETHORPE AVE STE 1017, SAVANNAH, GA 31401, POC: LT Greg Reilly, Primary Phone: (912) 652-4353.

SECTOR SEATTLE, 1519 ALASKAN WAY S, SEATTLE, WA 98134, POC: Joseph Dady, Primary Phone: (206) 217-6200.

SECTOR SOUTHEASTERN NEW ENGLAND, 1 LITTLE HARBOR ROAD, WOODS HOLE, MA 02543-1099, POC: Peter Popko, Primary Phone: (866) 819-9128.

SECTOR ST PETERSBURG, 155 COLUMBIA DR, TAMPA, FL 33606, POC: Edmond Morris, Primary Phone: (813) 228-2191 Ext. 8108.

SECTOR UPPER MISSISSIPPI RIVER, 1222 SPRUCE ST, SUITE 7.103, ST LOUIS, MO 63103, POC: Todd Epperson, Primary Phone: (314) 269-2500.

MSU VALDEZ, PO BOX 486/105 CLIFTON DRIVE, VALDEZ, AK 99686, POC: Jamie Schnider, Primary Phone: (907) 835-7200.

FOR FURTHER INFORMATION CONTACT: For questions about submitting an application or about a specific Area Maritime Security Committee (AMSC), contact the point of contact listed above with that AMSC in the ADDRESSES section. For general questions on AMSCs or this notice, contact LT Brian Zekus, Coast Guard, telephone 202-372-1116.

SUPPLEMENTARY INFORMATION:

Authority

Section 102 of the Maritime Transportation Security Act (MTSA) of 2002 (Pub. L. 107-295) added section 70112 to Title 46 of the U.S.Code, and authorized the Secretary of the Department in which the Coast Guard is operating to establish Area Maritime Security Advisory Committees for any port area of the United States. (See 33 U.S.C. 1226; 46 U.S.C.; 33 CFR 1.05-1, 6.01; Department of Homeland Security Delegation No. 0170.1). The MTSA includes a provision exempting these AMSCs from the Federal Advisory Committee Act, Public Law 92-436, 86 Stat. 470 (5 U.S.C. App.).

The AMSCs shall assist the Captain of the Port in the development, review, update, and exercising of the Area Maritime Security (AMS) Plan for their area of responsibility. Such matters may include, but are not limited to: Identifying critical port infrastructure and operations; identifying risks (threats, vulnerabilities, and consequences); determining mitigation strategies and implementation methods; developing strategies to facilitate the recovery of the marine transportation system after a transportation security incident; developing and describing the process to continually evaluate overall port security by considering consequences and vulnerabilities, how they may change over time, and what additional mitigation strategies can be applied; and providing advice to, and assisting the COTP in developing and maintaining the AMS Plan.

AMSC Membership

Members of the AMSC should have at least 5 years of experience related to maritime or port security operations. The local AMSCs have a variance in members due to geographical and local factors. We are seeking to fill vacancies with this solicitation. Applicants will be required to pass an appropriate security background check prior to appointment to the committee. Members' terms of office will be for 5 years; however, a member is eligible to serve additional terms of office. Members will not receive any salary or other compensation for their service on an AMSC. In support of the USCG policy on gender and ethnic diversity, we encourage qualified women and members of minority groups to apply.

Request for Applications

Those seeking membership are not required to submit formal applications to the local Captain of the Port, however, because we do have an obligation to ensure that a specific number of members have the prerequisite maritime security experience, we encourage the submission of resumes highlighting experience in the maritime and security industries.

Dated: December 18, 2008.
M. P. O'Malley,
Captain, U.S. Coast Guard, Office of Ports & Facility Activities.

[FR Doc. E8-30612 Filed 12-23-08; 8:45 am]

BILLING CODE 4910-15-P